DEPARTMENT OF ENERGY

Federal Energy Regulatory Commission

[Docket Nos. EG07-45-000 through FC07-49-000]

Notice of Effectiveness of Exempt Wholesale Generator or Foreign Utility Company Status

July 26, 2007.

| Docket No.
Glacial Ridge Wind Power LLC | EG07-45-000
Entergy Nuclear Palisades, LLC | EG07-46-000
Covanta Waste to Energy Asia Ltd | EG07-47-000
Lock 7 Hydro Partners, LLC | EG07-48-000
Calpine Power L.P. | FC07-30-000
Calpine Island Cogeneration Limited Partnership, Marianas Energy Company LLC | FC07-31-000
EDP Gás—S.G.P.S., S.A. | FC07-32-000
EDP Imobiliária e Participações, S.A. | FC07-33-000
Nuevas Energías de Occidente | FC07-34-000
Balwerk—Consultadoria Económica e Participações, Sociedade Unipessoal, Lda. | FC07-35-000
EDP Comercial—Comercialização de Energia, S.A. | FC07-36-000
EDP Distribuição de Energia, S.A. | FC07-37-000
EDP Finance Company Ltd. | FC07-38-000
Enernova—Novas Energias S.A. | FC07-39-000
Electrica de la Ribera del Ebro, S.A. | FC07-40-000
Hidroeléctrica del Cantábrico, S.A. | FC07-41-000
DECA II—Distribuicion Elétrica Centroamericana Dos II, S.A. | FC07-42-000
EDP Energias do Brasil, S.A. | FC07-43-000
EDP Produção Bioelẽctrica, S.A. | FC07-44-000
EDP Gesta̧o da Produção de Energia, S.A. | FC07-45-000
Electra S.A.R.L.—Empresa de Electricidade e Água | FC07-46-000
REN—Energéticas Nacionais, SGPS, S.A. | FC07-47-000
EDP Investment, Lda. | FC07-48-000
CMS Generation LLC | FC07-49-000

Take notice that during the month of June 2007, the status of the above-captioned entities as Exempt Wholesale Generators or Foreign Utility Companies became effective by operation of the Commission's regulations. 18 CFR 366.7(a).

Kimberly D. Bose,
Secretary.

[FR Doc. E7-14960 Filed 8-1-07; 8:45 am]

BILLING CODE 6717-01-P